DEPARTMENT OF AGRICULTURE

Agricultural Marketing Service

[Docket Number FV-04-303]

United States Standards for Grades of Field Grown Leaf Lettuce

AGENCY: Agricultural Marketing Service, USDA.

ACTION: Notice.

SUMMARY: The Agricultural Marketing Service (AMS), prior to undertaking research and other work associated with creating an official grade standard, is soliciting comments on the petition to create the United States Standards for Grades of Field Grown Leaf Lettuce. At a recent meeting of the Fruit and Vegetable Industry Advisory Committee, AMS was asked to review all the fresh fruit and vegetable grade standards for usefulness in serving the industry and identify commodities that may be better served if a grade standard was developed. As a result, AMS has noted that the industry is interested in the creation of standards for field grown leaf lettuce.

DATES: Comments must be received by February 9, 2004.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240, fax (202) 720-8871, E-mail FPB.DocketClerk@usda.gov. Comments should make reference to the dates and page number of this issue of the Federal Register and will be made available for public inspection in the above office during regular business hours.

FOR FURTHER INFORMATION CONTACT: David L. Priester, at the above address or call (202) 720-2185, e-mail David.Priester@usda.gov.

SUPPLEMENTARY INFORMATION: At a recent meeting of the Fruit and Vegetable Industry Advisory Committee, AMS was asked to review all the fresh fruit and vegetable grade standards for usefulness in serving the industry and to identify commodities that may be better served if a grade standard was developed. AMS has identified field grown leaf lettuce as a possible commodity for development of United States Standards for Grades of Field Grown Leaf Lettuce. Currently, there are U.S. Standards for Grades of Greenhouse Leaf Lettuce, but no standards for leaf lettuce grown in open fields. When requested to inspect field grown leaf lettuce, the greenhouse leaf lettuce standards may be used as a reference, but cannot be used for grade determination.

A new standard for leaf lettuce grown in open fields could contain sections pertaining to grades, tolerances, application of tolerances, pack requirements, definitions, and other relevant and necessary provisions. Prior to undertaking detailed work to develop the proposed standards for field grown leaf lettuce, AMS is soliciting comments on the possible development of the standards for grades of field green leaf lettuce and the probable impact on distributors, processors, and growers.

This notice provides for a 60-day comment period for interested parties to comment on the development of the standards. Should AMS conclude that there is a need for the development of the standards, the proposed standards will be published in the Federal Register with a request for comments in accordance with 7 CFR part 36.

Authority: 7 U.S.C. 1621-1627.

Dated: December 4, 2003.
A.J. Yates,
Administrator, Agricultural Marketing Service.

[FR Doc. 03-30603 Filed 12-9-03; 8:45 am]

BILLING CODE 3410-02-P